ENVIRONMENTAL PROTECTION AGENCY

[Regional Docket Nos. II-2002-10, II-2001-08; FRL-7580-2]

Clean Air Act Operating Permit Program; Petitions for Objection to State Operating Permits for the Consolidated Edison Company Hudson Avenue Station and the Ravenswood Steam Plant

AGENCY: Environmental Protection Agency (EPA).

ACTION: Notice of final orders on petitions to object to two State operating permits.

SUMMARY: This document announces that the EPA Administrator has responded to two citizen petitions asking EPA to object to operating permits issued to two facilities by the New York State Department of Environmental Conservation (NYSDEC). Specifically, the Administrator has partially granted and partially denied each of the petitions submitted by the New York Public Interest Research Group (NYPIRG) to object to each of the State operating permits issued to the following facilities:

(1) Consolidated Edison's Hudson Avenue Station in Brooklyn, NY.

(2) Consolidated Edison's Ravenswood Steam Plant in Long Island City, NY.

Pursuant to section 505(b)(2) of the Clean Air Act (Act), Petitioner may seek judicial review of those portions of the petitions which EPA denied in the United States Court of Appeals for the appropriate circuit. Any petition for review shall be filed within 60 days from the date this notice appears in the Federal Register, pursuant to section 307 of the Act.

ADDRESSES: You may review copies of the final orders, the petitions, and other supporting information at the EPA, Region 2, 290 Broadway, New York, New York 10007-1866. If you wish to examine these documents, you should make an appointment at least 24 hours before visiting day. Additionally, the final order for the Con Edison Hudson Avenue Station is available electronically at:

http://www.epa.gov/region07/programs/artd/air/title5/petitiondb/petitiondb2002.htm. The final order for the Ravenswood Steam Plant is available electronically at: http://www.epa.gov/region07/programs/artd/air/title5/petitiondb/petitiondb2001.htm.

FOR FURTHER INFORMATION CONTACT: Steven Riva, Chief, Permitting Section, Air Programs Branch, Division of Environmental Planning and Protection, EPA, Region 2, 290 Broadway, 25th Floor, New York, New York 10007-1866, telephone (212) 637-4074.

SUPPLEMENTARY INFORMATION: The Act affords EPA a 45-day period to review, and object to as appropriate, operating permits proposed by State permitting authorities. Section 505(b)(2) of the Act authorizes any person to petition the EPA Administrator within 60 days after the expiration of this review period to object to State operating permits if EPA has not done so. Petitions must be based only on objections to the permit that were raised with reasonable specificity during the public comment period provided by the State, unless the petitioner demonstrates that it was impracticable to raise these issues during the comment period or the grounds for the issues arose after this period.

I. Con Edison's Hudson Avenue Station

On September 27, 2002, the EPA received a petition from NYPIRG, requesting that EPA object to the issuance of the title V operating permit to the Consolidated Edison Hudson Avenue Station. The petition raises issues regarding the permit application, the permit issuance process, and the permit itself. NYPIRG asserts that: (1) The permit was issued in violation of the requirements of the New Source Review program; (2) the permit is deficient because it fails to incorporate the requirements from pre-existing permits issued to the facility; (3) the permit distorts the annual compliance certification requirement of Clean Air Act section 114(a)(3) and 40 CFR 70.6(c)(5); (4) the permit does not require prompt reporting of all deviations from permit requirements as mandated by 40 CFR 70.6(a)(3)(iii)(B); (5) the permit does not assure compliance with all applicable requirements as mandated by 40 CFR 70.1(b) and 70.6(a)(1) because it illegally sanctions the systematic violation of applicable requirements during startup/shutdown, malfunction, maintenance and upset conditions; (6) the permit is not supported by an adequate statement of basis; (7) the permit does not assure compliance with all applicable requirements as mandated by 40 CFR 70.1(b) and 70.6(a)(1) because many individual permit conditions lack adequate periodic monitoring and are not practically enforceable; (8) the permit lacks federally enforceable conditions that govern the procedures for permit renewal in accordance with 40 CFR 70.5(a)(1)(iii); (9) the permit is based upon an inadequate permit application; (10) the final permit improperly limits the dates during which the permit conditions apply; (11) the permit does not include an adequate compliance schedule for an opacity violation; and (12) the permit should include language indicating the availability of any credible evidence to demonstrate non-compliance.

On September 30, 2003, the Administrator issued an order partially granting and partially denying the petition on the Con Edison Hudson Avenue Street Station. The order explains the reasons behind EPA's conclusion that the NYSDEC must reopen the permit to: (1) Adequately address Petitioner's comments on non-attainment NSR; (2) work with EPA to identify items that may be excluded from annual certification requirements; (3) supplement the PM monitoring requirements for the boilers; (4) include the SIP version of the excuse provision on the federally enforceable side of the permit; (5) revise the statement of basis to include a detailed explanation regarding the basis of granting a permit shield for 6 NYCRR Part 231 and (6) require record keeping to assure compliance with the facility's episode action plan. The order also explains the reasons for denying NYPIRG's remaining claims.

II. Ravenswood Steam Plant

On December 17, 2001, the EPA received a petition from NYPIRG, requesting that EPA object to the issuance of the title V operating permit to the Consolidated Edison Ravenswood Steam Plant, on the grounds listed above except for the New Source Review, permit condition effective date, adequacy of compliance schedule and credible evidence issues. On September 30, 2003, the Administrator issued an order partially granting and partially denying the petition. The order explains the reasons behind EPA's conclusion that the NYSDEC must reopen the permit to: (1) Remove the “excuse provision” that cites 6 NYCRR section 201-1.4 from the federal side of the permit; (2) supplement the PM monitoring requirements for the boilers; (3) establish a relationship between any of the permit holders or operators and the system of fossil-fuel fired facilities that satisfies the criteria of 6 NYCRR section 227-2.5; (4) list, in the permit, those units that are defined as “NOX Budget Units''; (5) prescribe an analytical method for monitoring the sulfur-in-fuel limit; (6) specify the applicable compliance method that is used in the monitoring of sulfur dioxide emissions; and (7) identify in the permit the correct SIP version that constitutes the legal basis for the sulfur-in-fuel limit. The order also explains the reasons for denying NYPIRG's remaining claims.

Dated: October 20, 2003.
Jane M. Kenny,
Regional Administrator, Region 2.

[FR Doc. 03-27260 Filed 10-28-03; 8:45 am]

BILLING CODE 6560-50-P